DEPARTMENT OF ENERGY

Federal Energy Regulatory Commission

Combined Notice of Filings #1

Take notice that the Commission received the following electric corporate filings:

Docket Numbers: EC14-111-000.

Applicants: ON Wind Energy LLC.

Description: Application for Authorization for Disposition of Jurisdictional Facilities under Section 203 of the Federal Power Act and Request for Expedited Action of ON Wind Energy LLC.

Filed Date: 7/8/14.

Accession Number: 20140708-5112.

Comments Due: 5 p.m. ET 7/29/14.

Take notice that the Commission received the following electric rate filings:

Docket Numbers: ER11-1833-003; ER10-2981-003; ER11-47-003; ER11-41-003; ER13-1896-003; ER12-2343-001; ER11-46-006; ER10-2975-006; ER11-1834-003; ER11-1835-004; ER11-1838-004; ER98-542-029; ER98-542-030; ER98-542-031; ER14-594-003.

Applicants: Indiana Michigan Power Company, AEP Operating Companies, Appalachian Power Company, Kentucky Power Company, Kingsport Power Company, Wheeling Power Company, CSW Operating Companies, AEP Texas Central Company, AEP Texas North Company, Public Service Company of Oklahoma, Southwestern Electric Power Company, Ohio Power Company, AEP Energy Partners, Inc., CSW Energy Services, Inc., CSW Operating Companies, AEP Retail Energy Partners, LLC, AEP Energy Inc., AEP Generation Resources Inc.

Description: Supplement to December 20, 2013 Triennial Market Analysis Update of the AEP MBR affiliates located in PJM balancing area authority.

Filed Date: 7/3/14.

Accession Number: 20140703-5165.

Comments Due: 5 p.m. ET 7/24/14.

Docket Numbers: ER13-1139-006.

Applicants: Imperial Valley Solar 1, LLC.

Description: Notification of Non-Material Change in Status of Imperial Valley Solar 1, LLC.

Filed Date: 7/9/14.

Accession Number: 20140709-5131.

Comments Due: 5 p.m. ET 7/30/14.

Docket Numbers: ER14-2374-000.

Applicants: Torofino Trading LLC.

Description: Torofino Trading LLC submits notice of cancellation of its market-based tariff.

Filed Date: 7/1/14.

Accession Number: 20140708-0021.

Comments Due: 5 p.m. ET 7/22/14.

Docket Numbers: ER14-2381-000.

Applicants: Southwest Power Pool, Inc.

Description: 2252R2 Cottonwood Wind Project GIA to be effective 6/10/2014.

Filed Date: 7/8/14.

Accession Number: 20140708-5088.

Comments Due: 5 p.m. ET 7/29/14.

Docket Numbers: ER14-2382-000.

Applicants: ON Wind Energy LLC.

Description: Baseline new to be effective 8/12/2014.

Filed Date: 7/8/14.

Accession Number: 20140708-5094.

Comments Due: 5 p.m. ET 7/29/14.

Docket Numbers: ER14-2383-000.

Applicants: Aggressive Energy LLC.

Description: Aggressive Energy LLC to be effective 8/8/2014.

Filed Date: 7/8/14.

Accession Number: 20140708-5100.

Comments Due: 5 p.m. ET 7/29/14.

Docket Numbers: ER14-2384-000.

Applicants: Southwest Power Pool, Inc.

Description: 2220R3 Broken Bow Wind II, LLC GIA to be effective 6/12/2014.

Filed Date: 7/9/14.

Accession Number: 20140709-5014.

Comments Due: 5 p.m. ET 7/30/14.

Docket Numbers: ER14-2385-000.

Applicants: Midcontinent Independent System Operator, Inc.

Description: 2014-07-09 SA 2528 BREC KU 2014 IA Cert of Concurrence to be effective 8/20/2014.

Filed Date: 7/9/14.

Accession Number: 20140709-5017.

Comments Due: 5 p.m. ET 7/30/14.

Docket Numbers: ER14-2386-000.

Applicants: Public Service Company of New Hampshire.

Description: Cancellation of Localized Cost Responsibility Agreement with Town of Wallingford to be effective 9/8/2014.

Filed Date: 7/9/14.

Accession Number: 20140709-5030.

Comments Due: 5 p.m. ET 7/30/14.

Docket Numbers:ER14-2387-000.

Applicants: Western Massachusetts Electric Company.

Description: Cancellation of Localized Cost Responsibility Agreement with Town of Wallingford to be effective 9/8/2014.

Filed Date: 7/9/14.

Accession Number: 20140709-5048.

Comments Due: 5 p.m. ET 7/30/14.

Docket Numbers: ER14-2388-000.

Applicants: Liberty Utilities (Granite State Electric) Corp.

Description: Billing Dispute Resolution to be effective 4/11/2014.

Filed Date: 7/9/14.

Accession Number: 20140709-5091.

Comments Due: 5 p.m. ET 7/30/14.

Docket Numbers: ER14-2389-000.

Applicants: Western Massachusetts Electric Company.

Description: Notice of Cancellation of Equipment Rental Agreement Rate Schedule No. 436 of Western Massachusetts Electric Company.

Filed Date: 7/9/14.

Accession Number: 20140709-5095.

Comments Due: 5 p.m. ET 7/30/14.

Docket Numbers: ER14-2390-000.

Applicants: Midcontinent Independent System Operator, Inc.

Description: Midcontinent Independent System Operator, Inc. submits tariff filing per 35.13(a)(2)(iii): 2014-07-09_SA 1558 Forward Energy-ATC LGIA (G368) to be effective 7/10/2014.

Filed Date: 7/9/14.

Accession Number: 20140709-5107.

Comments Due: 5 p.m. ET 7/30/14.

Docket Numbers: ER14-2391-000.

Applicants: Link Energy Incorporated.

Description: Link Energy Incorporated submits tariff filing per 35.12: Link Energy Incorporated Market Based Rate Tariff to be effective 9/8/2014.

Filed Date: 7/9/14.

Accession Number: 20140709-5124.

Comments Due: 5 p.m. ET 7/30/14.

Docket Numbers: ER14-2392-000.

Applicants: New York State Electric & Gas Corporation.

Description: New York State Electric & Gas Corporation submits tariff filing per 35.15: Notice of Cancellation to be effective 6/6/2014.

Filed Date: 7/9/14.

Accession Number: 20140709-5152.

Comments Due: 5 p.m. ET 7/30/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2014.
Nathaniel J. Davis, Sr.,
Deputy Secretary.

[FR Doc. 2014-16686 Filed 7-15-14; 8:45 am]

BILLING CODE 6717-01-P